DEPARTMENT OF THE INTERIOR

National Park Service

AGENCY: National Park Service, Interior.

ACTION: Public notice.

SUMMARY: Pursuant to the terms of existing concession contracts, public notice is hereby given that the National Park Service has requested a continuation of visitor services for the following expiring concession contract for a period of 1 year, or until such time as a new contract is awarded, whichever occurs first.

SUPPLEMENTARY INFORMATION: The listed concession authorization expired on September 30, 2003. Under the provisions of current concession contracts and pending the development and public solicitation of a prospectus for a new concession contract, the National Park Service authorizes continuation of visitor services for a period not-to-exceed 1 year, or until such time as a new contract is awarded, whichever occurs first, under the terms and conditions of the current concession contract, as amended. The continuation of operations does not affect any rights with respect to selection for award of a new concession contract.

Concession contract No. | Concessioner name | Park
CC-YOSE001 | Ansel Adams Gallery | Yosemite National Park.

EFFECTIVE DATE: October 1, 2003.

FOR FURTHER INFORMATION CONTACT: Cynthia Orlando, Concession Program Manager, National Park Service, Washington, DC 20240, Telephone 202/513-7156.

Dated: January 20, 2004.
Richard G. Ring,
Associate Director, Administration, Business Practices and Workforce Development.

[FR Doc. 04-4224 Filed 2-24-04; 8:45 am]

BILLING CODE 4312-53-M